DEPARTMENT OF AGRICULTURE

Submission for OMB Review; Comment Request

January 3, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Trends in Use and Users in the Boundary Waters Canoe Area Wilderness, Minnesota.

OMB Control Number: 0596-0208.

Summary of Collection: The Wilderness Act of 1964, Public Law 88-577 (Act) directs the National Wilderness Preservation System (System) be managed to preserve natural conditions and to provide outstanding opportunities for solitude or a primitive and unconfined type of recreation. The System administers wilderness for the use and enjoyment of the American people in such manner as will leave these areas unimpaired for future use and enjoyment as wilderness. The Act encourages the gathering and dissemination of information regarding the use and enjoyment of these areas as wilderness.

Need and Use of the Information: The data collected from this information collection request will update trend information for the Boundary Waters Canoe Area Wilderness in Minnesota. Mangers of this Wilderness need to know and be able to inform the public, how visits (and visitors) have changed because of changing policies; natural disturbances; and national, regional, and local societal changes in 1990's and early 21st century. Mangers use this information to adapt current programs to changing societal interests and needs.

Description of Respondents: Individuals or households.

Number of Respondents: 500.

Frequency of Responses: Reporting: Annually.

Total Burden Hours: 167.

Charlene Parker,
Departmental Information Collection Clearance Officer.

[FR Doc. 2011-81 Filed 1-6-11; 8:45 am]

BILLING CODE 3410-11-P